DEPARTMENT OF ENERGY

Federal Energy Regulatory Commission

[Docket No. RP05-691-000]

CenterPoint Energy—Mississippi River Transmission Corporation; Notice of Technical Conference

November 15, 2005.

Take notice that the Commission will convene a technical conference on Tuesday, December 6, 2005, at 10 am (EST), in a room to be designated at the offices of the Federal Energy Regulatory Commission, 888 First Street, NE., Washington DC 20426.

The technical conference will address all issues raised by CenterPoint Energy—Mississippi River Transmission Corporation's September 30, 2005 filing to adjust its Fuel Use and Lost and Unaccounted-for Gas (LUFG) Percentages and implement supplemental adjustments to its Fuel Use and LUFG Percentages to reconcile past under-collections of fuel gas under its transportation rate schedules and past over-collections of fuel gas under its storage rate schedules. The Commission directed its staff to convene this technical conference in an October 31, 2005 order establishing technical conference.¹

¹ CenterPoint Energy—Mississippi River Transmission Corporation, 113 FERC ¶ 61,107 (2005).

FERC conferences are accessible under section 508 of the Rehabilitation Act of 1973. For accessibility accommodations please send an e-mail to accessibility@ferc.gov or call toll free (866) 208-3372 (voice) or 202-208-1659 (TTY), or send a FAX to 202-208-2106 with the required accommodations.

All interested persons are permitted to attend.

Magalie R. Salas,
Secretary.

[FR Doc. E5-6432 Filed 11-21-05; 8:45 am]

BILLING CODE 6717-01-P